DEPARTMENT OF TRANSPORTATION

Federal Aviation Administration

14 CFR Part 39

[Docket No. FAA-2020-0673; Product Identifier 2020-NM-076-AD; Amendment 39-21395; AD 2021-02-12]

RIN 2120-AA64

Airworthiness Directives; Airbus SAS Airplanes

AGENCY: Federal Aviation Administration (FAA), Department of Transportation (DOT).

ACTION: Final rule.

SUMMARY: The FAA is adopting a new airworthiness directive (AD) for all Airbus SAS Model A330-200 series airplanes, Model A330-200 Freighter series airplanes, Model A330-300 series airplanes, Model A330-900 series airplanes, Model A340-200 series airplanes, Model A340-300 series airplanes, Model A340-500 series airplanes, Model A340-600 series airplanes, Model A380-800 series airplanes; and Model A350-941 and -1041 airplanes. This AD was prompted by a report of a quality issue with a certain repair method of damage-through honeycomb core cargo linings by speed patches applied to both sides. This AD requires repair of each affected part, or replacement with a serviceable part, as specified in a European Union Aviation Safety Agency (EASA) AD, which is incorporated by reference. The FAA is issuing this AD to address the unsafe condition on these products.

DATES: This AD is effective March 30, 2021.

The Director of the Federal Register approved the incorporation by reference of a certain publication listed in this AD as of March 30, 2021.

ADDRESSES: For material incorporated by reference (IBR) in this AD, contact the EASA, Konrad-Adenauer-Ufer 3, 50668 Cologne, Germany; telephone +49 221 8999 000; email ADs@easa.europa.eu; internet www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-0673.

Examining the AD Docket

You may examine the AD docket on the internet at https://www.regulations.gov by searching for and locating Docket No. FAA-2020-0673; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Dan Rodina, Aerospace Engineer, Large Aircraft Section, International Validation Branch, FAA, 2200 South 216th St., Des Moines, WA 98198; phone and fax: 206-231-3225; email: dan.rodina@faa.gov.

SUPPLEMENTARY INFORMATION:

Discussion

The EASA, which is the Technical Agent for the Member States of the European Union, has issued EASA AD 2020-100R1, dated November 4, 2020 (EASA AD 2020-100R1) (also referred to as the Mandatory Continuing Airworthiness Information, or the MCAI), to correct an unsafe condition for all Airbus SAS Model A330-200 series airplanes, Model A330-200 Freighter series airplanes, Model A330-300 series airplanes, Model A330-900 series airplanes, Model A340-200 series airplanes, Model A340-300 series airplanes, Model A340-500 series airplanes, Model A340-600 series airplanes, Model A380-800 series airplanes; and Model A350-941 and -1041 airplanes.

The FAA issued a notice of proposed rulemaking (NPRM) to amend 14 CFR part 39 by adding an AD that would apply to all Airbus SAS Model A330-200 series airplanes, Model A330-200 Freighter series airplanes, Model A330-300 series airplanes, Model A330-900 series airplanes, Model A340-200 series airplanes, Model A340-300 series airplanes, Model A340-500 series airplanes, Model A340-600 series airplanes, Model A380-800 series airplanes; and Model A350-941 and -1041 airplanes. The NPRM published in the Federal Register on July 28, 2020 (85 FR 45350). The NPRM was prompted by a report of a quality issue with a certain repair method of damage-through honeycomb core cargo linings by speed patches applied to both sides. The NPRM proposed to require a detailed inspection of each affected part and, depending on findings, repair of each affected part, or replacement with a serviceable part, as specified in an EASA AD.

The FAA is issuing this AD to address reduced ability of repaired linings to contain smoke or fire, resulting in an increased risk of an uncontained fire in the cargo compartment and consequent structural damage to the airplane. See the MCAI for additional background information.

Comments

The FAA gave the public the opportunity to participate in developing this final rule. The following presents the comments received on the NPRM and the FAA's response to each comment.

Requests To Reference Revised EASA AD

American Airlines and Delta Airlines (DAL) requested that the FAA revise the proposed AD to reference EASA AD 2020-100R1. DAL pointed out that there are several instances where the requirements in EASA AD 2020-0100 are unclear, contradictory to the source documents, or unnecessarily restrictive to operators. DAL further asserted that, if the final rule is published using EASA AD 2020-0100, it will have to request several alternative methods of compliance (AMOCs) in order to comply with the proposed requirements. In addition, DAL provided a detailed discussion of the changes identified in EASA AD 2020-100R1 and how those changes would favorably impact operators, pointing out that certain inspection and repair requirements necessary to complete the actions specified in the proposed AD are clarified.

The FAA agrees with the requests for the reasons provided. The FAA has determined that the changes in EASA AD 2020-100R1 are relieving in nature (removing the requirement for a one-time detailed inspection (DET) of each affected part) and that this final rule should reference the revised EASA AD. Therefore, the FAA has revised this AD to refer to EASA AD 2020-100R1, dated November 4, 2020. The FAA has also revised the SUMMARY and Related Service Information under 1 CFR part 51 and Costs of Compliance sections of this AD to remove reference to the one-time detailed inspection that is no longer required by this AD.

Request To Use Flight Days Instead of Calendar Days

DAL requested that the proposed AD be revised to use flight days instead of calendar days to ensure that the requirements can be easily accomplished within a C-Check schedule. DAL noted that the inspection and rework of the ceiling, partition, and sidewall linings in the forward, aft and bulk cargo compartments is a labor-intensive activity that will be difficult to accomplish in any check shorter than a C-check without jeopardizing the `return to service' dates for affected aircraft. Further, DAL noted that the required rework might then require special visits in order to be fully accomplished. DAL stated that due to the current global circumstances with the pandemic, some operators have grounded airplanes and reduced workforces to help account for decreased flying demand, so accommodating a special visit will be more difficult than during normal operations. DAL noted that, for operators that are affected by global circumstances, the flammability risk of the discrepant repair should not be present when the airplane is parked with no power and cargo, and that additional time for compliance should be granted with an equivalent level of safety present.

The FAA disagrees with the request. Using flight days versus calendar days would be difficult for operators to track AD compliance. AD compliance requirements are calculated independently of scheduled maintenance periods. Also, showing compliance with the AD does not require the airplane to be on a C-check schedule. The FAA has determined that a compliance time of 23 months from the effective date of the AD represents an adequate amount of time to accomplish the actions required. If an operator is unable to accomplish the actions for whatever reason or has the airplane in storage, it may request approval of an AMOC under the provisions of paragraph (i)(1) of this AD. We have not changed this AD in this regard.

Request To Add Exceptions To Address Errors in Required for Compliance (RC) Procedures

DAL requested that the FAA add two exceptions to paragraph (h) of the proposed AD to address errors in RC procedures specified in the service information referenced in EASA AD 2020-100R1. DAL pointed out that Aircraft Maintenance Manual (AMM) Task A330-A-25-XX-3743-02001-690A-C specified in Airbus Service Bulletin A330-25-3743, dated September 23, 2019, includes a typographical error in a measurement. Additionally, DAL pointed out that AMM Task A330-A-25-XX-3743-01001-520A-A specified in Airbus Service Bulletin A330-25-3743, dated September 23, 2019, also specifies an incorrect AMM task reference for removing cargo liners in the forward cargo compartment. DAL suggested wording for the requested exceptions.

The FAA has confirmed the typographical errors and agrees with the request for the reasons provided. The FAA has revised paragraph (h) of this AD accordingly.

Conclusion

The FAA reviewed the relevant data, considered the comments received, and determined that air safety and the public interest require adopting this final rule with the changes described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related Service Information Under 1 CFR Part 51

EASA AD 2020-100R1, dated November 4, 2020, describes procedures for repair of each affected part, or replacement with a serviceable part. This material is reasonably available because the interested parties have access to it through their normal course of business or by the means identified in the ADDRESSES section.

Costs of Compliance

The FAA estimates that this AD affects 127 airplanes of U.S. registry. The FAA estimates the following costs to comply with this AD:

Estimated Costs for Required Actions
Action | Labor cost | Parts cost | Cost per product | Cost on U.S. operators
Repair | 2 work-hours × $85 per hour = $170 | * $ | $170 | $21,590
* The FAA has received no definitive data that would enable the FAA to provide cost estimates for the parts required for the repairs specified in this AD.

The FAA has received no definitive data that would enable the FAA to provide cost estimates for the replacements specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-02-12 Airbus SAS: Amendment 39-21395; Docket No. FAA-2020-0673; Product Identifier 2020-NM-076-AD.

(a) Effective Date

This airworthiness directive (AD) is effective March 30, 2021.

(b) Affected ADs

None.

(c) Applicability

This AD applies to all Airbus SAS airplanes identified in paragraphs (c)(1) through (10) of this AD, certificated in any category.

(1) Model A330-201, -202, -203, -223, and -243 airplanes.

(2) Model A330-223F and -243F airplanes.

(3) Model A330-301, -302, -303, -321, -322, -323, -341, -342, and -343 airplanes.

(4) Model A330-941 airplanes.

(5) Model A340-211, -212, and -213 airplanes.

(6) Model A340-311, -312, and -313 airplanes.

(7) Model A340-541 airplanes.

(8) Model A340-642 airplanes.

(9) Model A350-941 and -1041 airplanes.

(10) Model A380-841, -842, and -861 airplanes.

(d) Subject

Air Transport Association (ATA) of America Code 25, Equipment/furnishings.

(e) Reason

This AD was prompted by a report of a quality issue with a certain repair method of damage-through honeycomb core cargo linings by speed patches applied to both sides. The FAA is issuing this AD to address reduced ability of repaired linings to contain smoke or fire, resulting in an increased risk of an uncontained fire in the cargo compartment and consequent structural damage to the airplane.

(f) Compliance

Comply with this AD within the compliance times specified, unless already done.

(g) Requirements

Except as specified in paragraph (h) of this AD: Comply with all required actions and compliance times specified in, and in accordance with, European Union Aviation Safety Agency (EASA) AD 2020-100R1, dated November 4, 2020 (EASA AD 2020-100R1).

(h) Exceptions to EASA AD 2020-100R1

(1) Where EASA AD 2020-100R1 refers to its effective date, this AD requires using the effective date of this AD.

(2) Where EASA AD 2020-100R1 refers to “19 May 2020 [the effective date of EASA AD 2020-0100 at original issue],” this AD requires using the effective date of this AD.

(3) Where task Aircraft Maintenance Manual (AMM) A330-A-25-XX-3743-02001-690A-C specified in Airbus Service Bulletin A330-25-3743, dated September 23, 2019, states the measured dimension shall be equal to or more than “30 mm (1.81 in),” this AD requires using the measured dimension of “30 mm (1.18 in).”

(4) Where AMM task A330-A-25-XX-3743-01001-520A-A of Airbus Service Bulletin A330-25-3743, dated September 23, 2019, states, “For the FWD cargo-compartment, refer to Ref. AMM Task 25-54-00-000-801,” this AD requires using, “For the FWD cargo-compartment, refer to Ref. AMM Task 25-52-00-000-801.”

(5) The “Remarks” section of EASA AD 2020-100R1 does not apply to this AD.

(i) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (j) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): Except as required by paragraph (i)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

For more information about this AD, contact Dan Rodina, Aerospace Engineer, Large Aircraft Section, International Validation Branch, FAA, 2200 South 216th St., Des Moines, WA 98198; phone and fax: 206-231-3225; email: dan.rodina@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2020-100R1, dated November 4, 2020.

(ii) [Reserved]

(3) For EASA AD 2020-100R1, contact the EASA, Konrad-Adenauer-Ufer 3, 50668 Cologne, Germany; telephone +49 221 8999 000; email ADs@easa.europa.eu; internet www.easa.europa.eu. You may find this EASA AD on the EASA website at https://ad.easa.europa.eu.

(4) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-0673.

(5) You may view this material that is incorporated by reference at the National Archives and Records Administration (NARA). For information on the availability of this material at NARA, email fedreg.legal@nara.gov, or go to: https://www.archives.gov/federal-register/cfr/ibr-locations.html.

Issued on January 14, 2021.
Lance T. Gant,
Director, Compliance & Airworthiness Division, Aircraft Certification Service.

[FR Doc. 2021-03594 Filed 2-22-21; 8:45 am]

BILLING CODE 4910-13-P